DEPARTMENT OF TRANSPORTATION

Federal Aviation Administration

14 CFR Part 71

[Docket No. FAA-2023-1477; Airspace Docket No. 19-ANM-27]

RIN 2120-AA66

Modification of Class D Airspace; Revocation of Class E Airspace; Centennial Airport, Denver, CO

AGENCY: Federal Aviation Administration (FAA), DOT.

ACTION: Final rule.

SUMMARY: This action modifies Class D airspace and revokes Class E airspace designated as an extension to a Class D or Class E surface area at Centennial Airport (APA), Denver, CO. Additionally, this action amends the text associated with Centennial Airport's legal description. This action supports instrument flight rules (IFR) and visual flight rules (VFR) operations at the airport.

DATES: Effective date 0901 UTC, February 20, 2025. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Keith T. Adams, Federal Aviation Administration, Western Service Center, Operations Support Group, 2200 S 216th Street, Des Moines, WA 98198; telephone (206) 231-2428.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies Class D airspace and revokes Class E airspace designated as an extension to a Class D or Class E surface area in support of IFR and VFR operations at Centennial Airport, Denver, CO.

History

The FAA published a notice of proposed rulemaking for Docket No. FAA-2023-1477 in the Federal Register (89 FR 73020; September 09, 2024), proposing to modify Class D airspace and revoke Class E airspace designated as an extension to Class D or Class E surface area at Centennial Airport, Denver, CO. Interested parties were invited to participate in this rulemaking effort by submitting written comments on the proposal to the FAA. Four comments were received in favor of the proposal.

Incorporation by Reference

Class D and Class E4 are published in paragraph 5000 and 6004, respectively, of FAA Order JO 7400.11, Airspace Designations and Reporting Points, which is incorporated by reference in 14 CFR 71.1 on an annual basis. This document amends the current version of that order, FAA Order JO 7400.11J, dated July 31, 2024, and effective September 15, 2024. FAA Order JO 7400.11J is publicly available as listed in the ADDRESSES section of this document. These amendments will be published in the next update to FAA Order JO 7400.11.

FAA Order JO 7400.11J lists Class A, B, C, D, and E airspace areas, air traffic service routes, and reporting points.

The Rule

This action amends 14 CFR part 71 by modifying the Class D airspace and revoking the Class E airspace designated as an extension to a Class D or Class E surface area at Centennial Airport, Denver, CO, in support of IFR and VFR operations at the airport.

The airport's Class D airspace lateral boundary has been modified to extend 3.9 nautical miles (NM) northwest and 4.6 NM southeast from the airport's 038° bearing extending 4.6 NM northeast. This expansion—along with the modification to Buckley Space Force Base Airport's (BKF) Class D airspace—has merged both airport's surface areas, which will require transiting VFR aircraft to utilize 500 feet of Class E airspace area between the top of BKF Class D airspace and the floor of the Denver Class B airspace. Additionally, APA's Class D airspace is expanded from a 4.4-mile radius to a 6.4-mile radius between the airport's 083° bearing clockwise to the 201° bearing. Due to rising terrain, this modification will better contain instrument departures until reaching 700 feet above the surface of the earth. APA's Class D airspace has also been extended from a 4.4-mile radius to a 4.9-mile radius between the airport's 201° bearing clockwise to the 347° bearing to better contain aircraft conducting a circling maneuver at the airport.

The Class E airspace designated as an extension to a Class D or Class E surface area is revoked. This airspace is unnecessary given the airport's newly defined Class D airspace lateral dimensions provide suitable containment of applicable instrument flight procedures.

Lastly, this action amends the administrative text to the airport's legal description. The city's name is amended from Englewood to Denver. The airport's geographic coordinates are amended to 39°34′12″ N, long 104°50′57″ W. The part-time language has been removed as the facility operates 24 hours daily.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 5000 Class D Airspace.

* * * * *

ANM CO D Denver, CO [Amended]

Centennial Airport, CO

(Lat. 39°34′12″ N, long. 104°50′57″ W)

That airspace extending upward from the surface to but not including 8,000 feet MSL within 3.9 miles northwest and 4.6 miles southeast of the airport's 038° bearing extending to 4.6 miles northeast, within a 6.4-mile radius from the airport's 083° bearing clockwise to the 201° bearing, and within a 4.9-mile radius from the airport's 201° bearing clockwise to the 347° bearing.

* * * * *

Paragraph 6004 Class E Airspace Designated as an Extension to a Class D or Class E Surface Area.

* * * * *

ANM CO E4 Englewood, CO [Removed]

* * * * *

Issued in Des Moines, Washington, on December 17, 2024.
B.G. Chew,
Group Manager, Operations Support Group, Western Service Center.

[FR Doc. 2024-30530 Filed 12-20-24; 8:45 am]

BILLING CODE 4910-13-P